DEPARTMENT OF STATE

[Public Notice 6141]

Bureau of Educational and Cultural Affairs (ECA)

Request for Grant Proposals: Youth Exchange and Study (YES) Abroad Program.

Announcement Type: New Cooperative Agreement.

Funding Opportunity Number: ECA/PE/C/PY-08-11.

Catalog of Federal Domestic Assistance Number: 00.000.

Application Deadline: May 15, 2008.

Executive Summary

The Office of Citizen Exchanges of the Bureau of Educational and Cultural Affairs announces an open competition for cooperative agreements to support exchange programs and relationship building between American high school students and those who have just graduated, and host communities in selected countries with significant Muslim populations. Through these cooperative agreements the Bureau will fund a pilot exchange program for recipients to recruit and select American students, and enroll them in secondary schools for an academic semester or year of study in a foreign country currently participating in the Youth Exchange and Study (YES) program, incorporating themes for enhancement activities that promote respect for diversity, civil society, and mutual understanding. We expect that most students will be placed in host families, but will consider alternative housing arrangements, such as dormitories. Alternative arrangements must include daily adult resident supervision that ensures the security of participants and be combined with brief home stays. In either case, the student must be ensured his or her own bed. The exchange programs will take place between January 2009 and June 2010, and we anticipate that recruitment and planning will take place during the summer/early fall of 2008. We anticipate funding approximately four cooperative agreements for a total of fifty students and $1,000,000. The YES Abroad program builds on a tradition established by the YES program that has brought high school students from countries with significant Muslim populations to the United States each year since 2003. For more information about the YES program please refer to the Web site: http://www.exchanges.state.gov/education/citizens/students/programs/yes.htm.

I. Funding Opportunity Description

Authority

Overall cooperative agreement making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. Funding will be provided from the FY 2007 Supplemental Appropriation (Pub. L. 110-28) carried over into FY 2008 for obligation.

Purpose

The Youth Exchange and Study (YES) Abroad program is designed to foster a global community of shared interests and values developed through better mutual understanding via first-hand participation of high school students or those who have just graduated from the United States, aged 15-19, in academic semester and year-long exchanges to selected pilot countries with significant Muslim populations. The program seeks to support students with leadership potential, and to develop their leadership skills during the international exchange and after.

The overarching goals of the program are to:

1. Promote better understanding by American youth about selected countries and their society, people, institutions, values and culture;

2. Foster lasting personal ties;

3. Enhance foreign audiences' understanding of American culture;

4. Expose program participants to leadership development opportunities and enhancement activities;

5. Increase the capacity of the exchange infrastructure in participating countries to engage youth in activities that advance mutual understanding, respect for diversity, and civil society.

Note: In a Cooperative Agreement, the Bureau program office (ECA/PE/C/PY—the Youth Programs Division) and through it, U.S. Embassies abroad, are substantially involved in the program activities outlined above and beyond routine grant monitoring. ECA program office and U.S. Embassy activities and responsibilities for this program are as follows:

• The recipient will be responsible for overall development and implementation of all aspects of its proposed program in consultation with ECA and the host country's U.S. Embassy.

• ECA will determine the priority or target countries for hosting of program participants, in consultation with the U.S. Embassies.

• Recipients will be responsible for using a standardized screening process in the selection of host families and for consulting about their proposed placement locations (neighborhoods, regions) with the Public Affairs Section (PAS) of U.S. Embassy.

• The ECA program office will review proposed school and host family placement or alternate housing arrangement plans per criteria set forward in the POGI for each program participant before final arrangements are made.

General Responsibilities

Applicants may enter into consortia or sub-cooperative agreement arrangements with other foreign or U.S. domestic organizations to cover all facets of programming in the United States and the host country. Sub-cooperative agreement arrangements with partners that have responsibility for critical components of the program (for example, recruitment or placement) must have a recent record of work with the primary recipient. Applicants and their partners should outline their project team's capacity for doing projects of this nature, focusing on four areas of competency: (1) Provision of program support to American students, (2) age-appropriate leadership and cultural programming, (3) alumni tracking and programming, and (4) experience working with individuals from the proposed host countries. Responsibilities are listed below:

• To recruit and select a diverse group of American high school students and those who have just graduated and place them in overseas schools that are accredited by the respective Ministry of Education or other internationally recognized accrediting body for at least one academic semester or one full year.

• To provide pre-departure, mid-program, and re-entry orientations to prepare student participants.

• To provide program materials and orientations to host families and schools.

• To provide for all student foreign and domestic travel.

• To provide students with qualified, screened, and well-motivated host families. With justification, proposals may include reasonable living allowances to cover costs associated with hosting a student.

• To provide students with monthly stipends (pocket money) based on each host country's local economy.

• To provide participants with intensive language training required in the host country for at least the first three months of the exchange, and for the duration of the program, if needed, to ensure the social and academic success of every student.

• To provide students with a local representative on whom the student may call for resolution of any cultural, academic, or other adjustment issues. This person must be an English-speaker that is either an American or a host country national with significant experience living in the U.S. Students should also be provided with an English speaking emergency contact available at any time.

• To provide day-to-day monitoring of the program and support of the students, preventing and dealing with any participant issues that may arise. The Public Affairs Section (PAS) of the U.S. Embassy and the ECA Program Office representative should be informed of health, safety and other serious issues as soon as they arise.

• To expose students to local culture through enhancement activities that will enable them to attain a broad view of the society and culture.

• To expose students to opportunities for volunteerism and community service.

• To encourage students to share their culture, lifestyle and traditions with local citizens throughout their stay and especially during International Education Week.

• To provide students with leadership training and opportunities that will foster leadership skills and development.

• To provide activities that will increase and enhance students' appreciation of the importance of tolerance and respect for the views, beliefs, and practices of a diverse world.

• To provide enhancement activities including, but not limited to, language training and integrated projects with Youth Exchange and Study (YES) inbound program alumni who have returned from the U.S. to their home countries. Applicants will work with ECA to develop strategies to identify and work with these alumni.

• To develop alumni databases and create alumni programs giving opportunities for returning students to incorporate their knowledge and skills into service in their home communities.

Eligible Countries

The eligible countries at the time of publication of this RFGP are: Bahrain, Egypt, Ghana, India, Indonesia, Malaysia, Mali, Morocco, Oman, Tanzania, Thailand, or Turkey. The Bureau reserves the right to amend or modify this list of eligible countries should conditions change in the host country or if other countries are identified as priorities after publication of this RFGP. Should an applicant have questions in regards to a country on this list, please see Section IV.1 for contact information.

Applicants may submit proposals to send students to one or more of these countries. An applicant must propose no fewer than five (5) students per country. It is acknowledged that outbound American participants are not governed by the same protections of the J-1 visa regulations governing exchange students coming to the U.S.; therefore for the safety and security of the American participants, it is a requirement that an applicant must provide similar protections and oversight traditionally afforded to inbound students under the U.S. J-1 visa regulations. In their proposals applicants must describe in detail their plans for screening, selection, placement, orientation and monitoring procedures that will ensure this requirement's implementation. See section IV.3d.1 for further details. Proposals should provide implementation plans by country for school enrollment, host family screening and placement, cultural enrichment activities, and student support.

II. Award Information

Type of Award: New Cooperative Agreement.

Fiscal Year Funds: FY-2007 Supplemental Funds carried over into FY-2008 for obligation.

Approximate Total Funding: $1,000,000.

Approximate Number of Awards: 4.

Approximate Average Award: $250,000.

Floor of Award Range: $100,000.

Ceiling of Award Range: $500,000.

Anticipated Award Date: May 30, 2008.

Anticipated Project Completion Date: 09/31/2011.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. When cost sharing is offered, it is understood and agreed that the applicant must provide the amount of cost sharing as stipulated in its proposal and later included in an approved cooperative agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau cooperative agreement guidelines require that organizations with less than four years experience in conducting international exchanges be limited to $60,000 in Bureau funding. ECA anticipates awarding cooperative agreements of no less than $100,000 to support program and administrative costs required to implement this exchange program. Therefore, organizations with less than four years experience in conducting international exchanges are ineligible to apply under this competition. The Bureau encourages applicants to provide maximum levels of cost sharing and funding in support of its programs.

(b) Technical Eligibility: Proposals must offer full-time enrollment for one semester or academic year in a school accredited by the host country Ministry of Education or other internationally recognized accrediting body in the host country. Your proposal will be declared technically ineligible and given no further consideration in the review process if this criterion is not met.

IV. Application and Submission Information

Note: Please read the complete announcement before sending inquiries or submitting proposals. Once the RFGP deadline has passed, Bureau staff may not discuss this competition with applicants until the proposal review process has been completed.

IV.1. Contact Information to Request an Application Package:

Please contact the Youth Programs Division, ECA/PE/C/PY, Room 224, U.S. Department of State, SA-44, 301 4th Street, SW., Washington, DC 20547, (T) 202-453-8170, OROURKEMM@state.gov to request a Solicitation Package. Please refer to the Funding Opportunity Number ECA/PE/C/PY-08-11 located at the top of this announcement when making your request.

Alternatively, an electronic application package may be obtained from grants.gov. Please see section IV.3f for further information.

The Solicitation Package contains the Proposal Submission Instruction (PSI) document which consists of required application forms, and standard guidelines for proposal preparation. It also contains the Project Objectives, Goals and Implementation (POGI) document, which provides specific information, award criteria and budget instructions tailored to this competition.

Please specify Kevin Baker and refer to the Funding Opportunity Number ECA/PE/C/PY-08-11 located at the top of this announcement on all other inquiries and correspondence.

IV.2. To Download a Solicitation Package Via Internet:

The entire Solicitation Package may be downloaded from the Bureau's Web site at http://exchanges.state.gov/education/rfgps/menu.htm, or from the Grants.gov Web site at http://www.grants.gov. Please read all information before downloading.

IV.3. Content and Form of Submission:

Applicants must follow all instructions in the Solicitation Package. The application should be submitted per the instructions under IV.3f. “Application Deadline and Methods of Submission” section below.

IV.3a. Your organization is required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget. Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

While the students will not travel on J-1 visas, which are for foreign exchange visitors to the United States, the Bureau of Educational and Cultural Affairs places critically important emphasis on the security and proper administration of the Exchange Visitor (J visa) Programs and recipients and sponsors responsibilities to all regulations governing the J visa. Therefore, proposals should demonstrate the applicant's plan to meet all similar requirements as those governing the administration of Exchange Visitor Programs for students coming to the U.S. as set forth in 22 CFR 62, for American participants traveling abroad, including screening and selection of program participants and host families, provision of pre-arrival information and orientation to participants, monitoring of participants, proper maintenance and security of forms, record-keeping, reporting and other requirements.

Please refer to Solicitation Package for further information.

A copy of the complete regulations governing the administration of Exchange Visitor (J) programs is available at http://exchanges.state.gov or from: United States Department of State, Office of Exchange Coordination and Designation, ECA/EC/ECD—SA-44, 301 4th Street, SW., Room 734, Washington, DC 20547, Telephone: (202) 203-5029, FAX: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

Participant satisfaction with the program and exchange experience.

Participant learning, such as increased knowledge, aptitude, skills, and changed understanding and attitude. Learning includes both substantive (subject-specific) learning and mutual understanding.

Participant behavior, concrete actions to apply knowledge in work or community; greater participation and responsibility in civic organizations; interpretation and explanation of experiences and new knowledge gained; continued contacts between participants, community members, and others.

Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipients will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program.

There must be a summary budget as well as breakdowns reflecting both administrative and program budgets by country. Applicants may provide separate sub-budgets for each program component, phase, location, or activity to provide clarification.

IV.3e.2. Allowable costs for the program are described in detail in the POGI.

Please refer to the Solicitation Package for complete budget guidelines and formatting instructions.

IV.3F. Application Deadline and Methods of Submission:

Application Deadline Date: May 15, 2008.

Reference Number: ECA/PE/C/PY-08-11.

Methods of Submission:

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 6 copies of the application should be sent to: U.S. Department of State, Bureau of Educational and Cultural Affairs, SA-44, Ref.: ECA/PE/C/PY-08-11, Program Management, ECA/EX/PM, Room 534, 301 4th Street, SW., Washington, DC 20547.

Applicants submitting hard-copy applications must also electronically submit by e-mail to the program office the “Executive Summary” and “Proposal Narrative” sections of the proposal in Microsoft Word format, as well as the “Budget” and “Budget Narrative” section in Microsoft Excel format. The Bureau will provide these files electronically to the appropriate Public Affairs Section(s) at the U.S. embassies for their review.

IV.3f.2. Submitting Electronic Applications

Applicants have the option of submitting proposals electronically through Grants.gov (http://www.grants.gov). Complete solicitation packages are available at Grants.gov in the “Find” portion of the system. Please follow the instructions available in the ‘Get Started' portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your internet connection. Therefore, we strongly recommend that you not wait until the application deadline to begin the submission process through Grants.gov.

Direct all questions regarding Grants.gov registration and submission to: Grants.gov Customer Support, Contact Center Phone: 800-518-4726, Business Hours: Monday—Friday, 7 a.m.-9 p.m. EST; E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications. It is the responsibility of all applicants submitting proposals via the Grants.gov web portal to ensure that proposals have been received by Grants.gov in their entirety, and ECA bears no responsibility for data errors resulting from transmission or conversion processes.

IV.3g. Intergovernmental Review of Applications:

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant and cooperative agreement panels for advisory review. Proposals may also be reviewed by the Office of the Legal Adviser or by other Department elements. Final funding decisions are at the discretion of the Department of State's Assistant Secretary for Educational and Cultural Affairs. Final technical authority for assistance awards for cooperative agreements resides with the Bureau's Grants Officer.

Review Criteria

Eligible proposals will be subject to compliance with Federal and Bureau regulations and guidelines and forwarded to Bureau grant and cooperative agreement panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer. The Bureau reserves the right to reduce, revise, or increase proposal budgets in accordance with the needs of the program and availability of funds.

The submission will be reviewed with the following review criteria in mind:

1. Quality of the program idea and planning: Proposals should exhibit originality, substance, precision, and relevance to the Bureau's mission. Detailed agenda and relevant work plan should demonstrate substantive undertakings and logistical capacity, and should adhere to the program overview and guidelines described above. Objectives should be reasonable, feasible, and flexible. Proposals should clearly demonstrate how the institution will meet the program's objectives and plan.

2. Institutional Capacity and Track Record: Proposed personnel and institutional resources should be adequate and appropriate to achieve the program or project's goals. In-country organizations must demonstrate their capacity to fully support and ensure the safety and well-being of the American participants throughout the duration of their stay. Proposals should demonstrate an institutional record of successful exchange programs, including responsible fiscal management and full compliance with all reporting requirements for past Bureau grants and cooperative agreements as determined by the Bureau's Office of Contracts. The Bureau will consider the past performance of prior recipients and the demonstrated potential of new applicants.

3. Support of Diversity: Proposals should demonstrate the recipient's commitment to promoting the awareness and understanding of diversity. The applicant should include an assessment of how the proposal serves to promote diversity in such areas as the selection of participants, schools, host families, and exchange program elements.

4. Follow-on Activities: Proposals should provide a plan for continued follow-on activity (without Bureau support) which insures that Bureau supported programs are not isolated events.

5. Project Evaluation: Proposals should include a plan to evaluate the activity's success, both as the activities unfold and at the end of the program. The Bureau recommends that the proposal include a draft survey questionnaire or other technique plus description of a methodology to use to link outcomes to original project objectives. Award-receiving organizations/institutions will be expected to submit intermediate reports after each project component is concluded or quarterly, whichever is less frequent.

6. Cost-effectiveness and Cost-sharing: The overhead and administrative components of the proposal, including salaries and honoraria, should be kept as low as possible. All other items should be necessary and appropriate. Proposals should maximize cost-sharing through other private sector support as well as institutional direct funding contributions.

7. Value to U.S.-Partner Country Relations: Proposed programs should receive positive assessments by the Bureau's geographic area desk and overseas officers of program need, potential impact, and significance in the partner country(ies).

VI. Award Administration Information

VI.1a. Award Notices

Final awards cannot be made until funds have been appropriated by Congress, allocated and committed through internal Bureau procedures. Successful applicants will receive an Assistance Award Document (AAD) from the Bureau's Grants Office. The AAD and the original cooperative agreement proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus one copy of the following reports.

Mandatory

1. Quarterly program and financial reports.

2. Monthly school and housing placement reports of the students should be provided in the Excel spreadsheet format provided by ECA.

3. A final program and financial report no more than 90 days after the expiration of the award.

Recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Kevin Baker (T) 202-453-8153 or Astrida Levensteins (T) 202-453-8149 Youth Programs Division, Ref. ECA/PE/C/PY-08-11, U.S. Department of State, SA-44, 301 4th Street, SW., Room 220, Washington, DC 20547, (F) 202-453-8169, exchanges.state.gov

All correspondence with the Bureau concerning this RFGP should reference the above title and number ECA/PE/C/PY-08-11. Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 11, 2008.
C. Miller Crouch,
Acting Assistant Secretary, Bureau of Educational and Cultural Affairs, Department of State.

[FR Doc. E8-5688 Filed 3-19-08; 8:45 am]

BILLING CODE 4710-05-P